NUCLEAR REGULATORY COMMISSION

Notice of Availability of Model Application Concerning Technical Specification Improvement Regarding Extension of Reactor Coolant Pump Motor Flywheel Examination for Westinghouse Plants Using the Consolidated Line Item Improvement Process

AGENCY: Nuclear Regulatory Commission.

ACTION: Notice of availability.

SUMMARY: Notice is hereby given that the staff of the Nuclear Regulatory Commission (NRC) has prepared a model safety evaluation (SE), a model no significant hazards consideration (NSHC) determination, and a model application relating to a change in the technical specification (TS) required inspection interval for reactor coolant pump (RCP) flywheels at Westinghouse-designed reactors. The purpose of this model is to permit the NRC to efficiently process amendments that propose to extend the inspection interval for RCP motor flywheels. Licensees of nuclear power reactors to which the model applies may request amendments using the model application.

DATES: The NRC staff issued a Federal Register Notice on June 24, 2003 (68 FR 37590), which provided a model SE and a model NSHC determination relating to the extension of RCP flywheel examination frequencies for Westinghouse-designed reactors. The NRC staff hereby announces that the model SE and NSHC determination may be referenced in plant-specific applications to revise TSs. The staff has posted a model application on the NRC Web site to assist licensees in using the consolidated line item improvement process (CLIIP) to extend the RCP flywheel examination frequency. The NRC staff can most efficiently consider applications based upon the model application if the application is submitted within a year of this Federal Register Notice.

FOR FURTHER INFORMATION CONTACT: William Reckley, Mail Stop: O-7D1, Division of Licensing Project Management, Office of Nuclear Reactor Regulation, U.S. Nuclear Regulatory Commission, Washington, DC 20555-0001, telephone (301) 415-1323.

SUPPLEMENTARY INFORMATION:

Background

Regulatory Issue Summary 2000-06, “Consolidated Line Item Improvement Process for Adopting Standard Technical Specification Changes for Power Reactors,” was issued on March 20, 2000. The CLIIP is intended to improve the efficiency of NRC licensing processes. This is accomplished by processing proposed changes to the standard technical specifications (STS) in a manner that supports subsequent license amendment applications. The CLIIP includes an opportunity for the public to comment on proposed changes to the STS following a preliminary assessment by the NRC staff and finding that the change will likely be offered for adoption by licensees. The CLIIP directs the NRC staff to evaluate any comments received for a proposed change to the STS and to either reconsider the change or to proceed with announcing the availability of the change for proposed adoption by licensees. Those licensees opting to apply for the subject change to TS are responsible for reviewing the staff's evaluation, referencing the applicable technical justifications, and providing any necessary plant-specific information. Each amendment application made in response to the notice of availability will be processed and noticed in accordance with applicable rules and NRC procedures.

This notice involves the extension of the minimum inspection intervals for RCP flywheels at Westinghouse-designed plants. This proposed change was proposed for incorporation into the STS by the Westinghouse Owners Group (WOG) participants in the Technical Specification Task Force (TSTF) and is designated TSTF-421, Revision 0. Much of the technical support for TSTF-421 was provided in topical report WCAP-15666-NP, “Extension of Reactor Coolant Pump Motor Flywheel Examination,” submitted on August 24, 2001. The NRC staff's acceptance of the topical report is documented in an SE dated May 5, 2003.

Applicability

This proposed change to the inspection interval for RCP motor flywheels is applicable to plants with Westinghouse-designed nuclear steam supply systems.

Public Notices

In a notice in the Federal Register dated June 24, 2003 (68 FR 37590), the staff requested comment on the use of the CLIIP to process requests to change the inspection interval for RCP flywheels at Westinghouse plants.

TSTF-421, as well as the NRC staff's SE and model application, may be examined, and/or copied for a fee, at the NRC's Public Document Room, located at One White Flint North, 11555 Rockville Pike (first floor), Rockville, Maryland. Publicly available records are accessible electronically from the ADAMS Public Library component on the NRC Web site, (the Electronic Reading Room).

The staff received two responses to the notice soliciting comments about using the CLIIP to facilitate plant-specific adoption of TSTF-421. Both comments were offered by licensees and suggested that the model SE, NSHC determination, and application should be applicable to some facilities designed by Babcock and Wilcox (B&W).

The supporting material for TSTF-421, namely WCAP-15666-NP, did include some data for B&W plants. The topical report and related SE prepared by the NRC staff did not, however, specifically address the applicability of the risk assessments and other evaluations to B&W plants. The model SE and application offered as part of the CLIIP will remain applicable only to Westinghouse plants. The NRC staff acknowledges that some of the supporting material for TSTF-421 may also help to support plant-specific applications for the B&W units included in portions of WCAP-15666. The NRC staff will work with licensees for the applicable B&W units to ensure that our processes work as efficiently as possible for those applying for license amendments similar to that described in TSTF-421. The affected licensees are encouraged to discuss this matter with the NRC staff before submitting an application.

As described in the model application prepared by the staff, licensees may reference in their plant-specific applications to adopt TSTF-421 the SE and NSHC determination previously published in the Federal Register (68 FR 37590, June 24, 2003).

Dated at Rockville, Maryland, this 15th day of October 2003.
For the Nuclear Regulatory Commission.
Robert A. Gramm,
Acting Director, Project Directorate IV, Division of Licensing Project Management, Office of Nuclear Reactor Regulation.

[FR Doc. 03-26632 Filed 10-21-03; 8:45 am]

BILLING CODE 7590-01-P